DEPARTMENT OF HEALTH AND HUMAN SERVICES

Health Resources and Services Administration

Notice of Supplemental Award; Infant-Toddler Court Program—National Resource Center

AGENCY: Health Resources and Services Administration (HRSA), Department of Health and Human Services.

ACTION: Notice of supplemental funding.

SUMMARY: HRSA is providing additional award funds of $1,750,000 in federal fiscal year (FY) 2025 to ZERO TO THREE National Center for Infant, Toddler and Families, Inc., the current recipient of the Infant-Toddler Court Program (ITCP)—National Resource Center (NRC) cooperative agreement (HRSA-22-074), to support the continuation of existing activities, using the Infant Toddler Court (ITC) approach, to improve child welfare and early childhood systems and advance early developmental health and well-being. The supplemental funding would provide financial and technical support to local infant-toddler court sites that previously received funding under HRSA-18-123, but that do not currently receive HRSA funding under HRSA-22-073/074, and expand technical assistance (TA) needed to support the continuation and expansion of State Award activities funded under HRSA-22-073/074.

FOR FURTHER INFORMATION CONTACT: Ekaterina Zoubak, Early Childhood Systems Analyst, Division of Home Visiting and Early Childhood Systems, HRSA, at ezoubak@hrsa.gov or 240-475-8014.

SUPPLEMENTARY INFORMATION:

Intended Recipient of the Award: ZERO TO THREE National Center for Infant, Toddler and Families, Inc.

Amount of Non-Competitive Award: $1,750,000.

Project Period: September 30, 2025-September 29, 2026.

Assistance Listing Number: 93.110.

Award Instrument: Non-competitive supplemental funding to the existing Cooperative Agreement.

Authority: 42 U.S.C. 701(a)(2) (Title V, § 501(a)(2) of the Social Security Act).

Table 1—Recipient(s) and Award Amount(s)
Grant No. | Award recipient name | City, state | Award amount
U2DMC32394 | ZERO TO THREE National Center for Infant, Toddler and Families, Inc | Washington, DC | $1,750,000

Justification: In FY 2022, under the authority for Special Projects of Regional and National Significance (SPRANS) (42 U.S.C. 701(a)(2) (Title V, § 501(a)(2) of the Social Security Act)), HRSA awarded the ITCP National Resource Center to ZERO TO THREE National Center for Infant, Toddler and Families, Inc (HRSA-22-074). This award included expectations for the recipient to provide TA to the ITCP (HRSA-22-073) recipients and support the nationwide implementation and sustainability of the evidence-based ITC approach.

A Congressional Report accompanying the Further Consolidated Appropriations Act, 2024 (Pub. L. 118-47) included funding to “to continue and expand research-based Infant-Toddler Court Teams to change child welfare practices to improve wellbeing for infants, toddlers, and their families,” (Senate Report 118-84). In addition, the Joint Explanatory Statement accompanying the FY 2024 appropriations act directed HRSA to “allocate funding to ensure continuation of existing grantees, technical assistance, and other activities.” In FY 2024, HRSA provided a supplement of $1,750,000 in SPRANS to the NRC Program recipient to continue work initiated in FY 2023 (with an increased SPRANS appropriation), to expand TA to ITC teams, provide financial and technical support to local infant-toddler court sites that previously received funding under HRSA-18-123, and advance national-level reach and impact of the program.

Consistent with previous Congressional intent, HRSA, through its Maternal and Child Health Bureau, will provide a supplement of $1,750,000 in SPRANS funding to the ITCP NRC Program recipient to continue to provide subawards and technical assistance to ITC teams, expand technical assistance to ITC teams funded under HRSA-22-073/074 and advance the reach and impact of the program.

This supplement will improve access to evidence-based child welfare practices and improve the early developmental health and well-being of infants, toddlers, and their families. Supplemental funding for similar activities may be considered in future years, subject to the availability of funding for the activity and satisfactory performance.

Thomas J. Engels,
Administrator.

[FR Doc. 2025-15537 Filed 8-14-25; 8:45 am]

BILLING CODE 4615-15-P